DEPARTMENT OF ENERGY

10 CFR Chs. II, III, and X

48 CFR Ch. 9

Semiannual Regulatory Agenda

AGENCY: Department of Energy.

ACTION: Semiannual regulatory agenda.

SUMMARY: The Department of Energy (DOE) has prepared and is making available its portion of the semiannual Unified Agenda of Federal Regulatory and Deregulatory Actions (Agenda), including its Regulatory Plan (Plan), pursuant to Executive Order 12866, “Regulatory Planning and Review,” and the Regulatory Flexibility Act.

SUPPLEMENTARY INFORMATION: The Agenda is a government-wide compilation of upcoming and ongoing regulatory activity, including a brief description of each rulemaking and a timetable for action. The Agenda also includes a list of regulatory actions completed since publication of the last Agenda. The Department of Energy's portion of the Agenda includes regulatory actions called for by statute, including amendments contained in the Energy Independence and Security Act of 2007 and the American Energy Manufacturing Technical Corrections Act, and programmatic needs of DOE offices.

The Internet is the basic means for disseminating the Agenda and providing users the ability to obtain information from the Agenda database. DOE's entire Fall 2015 Agenda can be accessed online by going to: www.reginfo.gov. Agenda entries reflect the status of activities as of approximately November 30, 2015.

Publication in the Federal Register is mandated by the Regulatory Flexibility Act (5 U.S.C. 602) only for Agenda entries that require either a regulatory flexibility analysis or periodic review under section 610 of that Act. DOE's regulatory flexibility agenda is made up of six rulemakings that will either set energy efficiency standards or establish test procedures for the following products:

• Ceiling Fan Light Kits

• Ceiling Fans

• Commercial Pre-Rinse Spray Valves

• Light-Emitting Diode Lamps

• Refrigerated Bottled or Canned Beverage Vending Machines

The Plan appears in both the online Agenda and the Federal Register and includes the most important of DOE's significant regulatory actions and a Statement of Regulatory and Deregulatory Priorities.

Steven P. Croley,
General Counsel.

Energy Efficiency and Renewable Energy—Proposed Rule Stage
Sequence No. | Title | Regulation Identifier No.
238 | Standards for Refrigerated Bottled or Canned Beverage Vending Machines | 1904-AD00
239 | Energy Conservation Standards for Ceiling Fans | 1904-AD28

Energy Efficiency and Renewable Energy—Final Rule Stage
Sequence No. | Title | Regulation Identifier No.
240 | Test Procedures for Light-Emitting Diode Lamps | 1904-AC67
241 | Energy Conservation Standards for Residential Ceiling Fan Light Kits | 1904-AC87

Energy Efficiency and Renewable Energy—Long-Term Actions
Sequence No. | Title | Regulation Identifier No
242 | Energy Conservation Standards for Commercial Pre-Rinse Spray Valves | 1904-AD31

Energy Efficiency and Renewable Energy—Completed Actions
Sequence No. | Title | Regulation Identifier No.
243 | Test Procedure for Refrigerated Bottled or Canned Beverage Vending Machines | 1904-AD07

DEPARTMENT OF ENERGY (DOE)

Energy Efficiency and Renewable Energy (EE)

Proposed Rule Stage

238. Standards for Refrigerated Bottled or Canned Beverage Vending Machines

Legal Authority: 42 U.S.C. 6295(m)(1)

Abstract: EPCA, as amended by AEMTCA 2012, requires the Secretary to determine whether updating the statutory energy conservation standards for refrigerated beverage vending machines is technologically feasible and economically justified. If it is determined that it is technologically feasible and economically justified, the Secretary will issue amended energy conservation standards by August 2017.

Timetable:

Action | Date | FR Cite
Framework Document Availability and Public Meeting | 06/04/13 | 78 FR 33262
Framework Document Extended Comment Period | 07/10/13 | 78 FR 41333
Preliminary Technical Support Document and Public Meeting | 08/08/14 | 79 FR 46379
Preliminary Technical Support Document Comment Period End | 10/07/14 |
NPRM | 08/19/15 | 80 FR 50462
NPRM Comment Period End | 10/19/15 |
NPRM Comment Period Reopened | 10/23/15 | 80 FR 64370
NPRM Comment Period Reopened End | 11/23/15 |
Final Action | 03/00/16 |

Regulatory Flexibility Analysis Required: Yes.

Agency Contact: John Cymbalsky, Office of Building Technologies Program, EE-5B, Department of Energy, Energy Efficiency and Renewable Energy, 1000 Independence Avenue SW., Washington, DC 20585, Phone: 202 287-1692, Email: john.cymbalsky@ee.doe.gov.

RIN: 1904-AD00

239. Energy Conservation Standards for Ceiling Fans

Legal Authority: 42 U.S.C. 6295(ff)

Abstract: EPCA authorizes the Secretary to determine whether updating the statutory energy conservation standards for ceiling fans is technically feasible and economically justified and would result in significant energy savings. If these criteria are met, the Secretary may issue amended energy conservation standards for ceiling fans.

Timetable:

Action | Date | FR Cite
NPRM | 11/00/15 |
Final Action | 07/00/16 |

Regulatory Flexibility Analysis Required: Yes.

Agency Contact: Lucy DeButts, Office of Buildings Technologies Program, EE-5B, Department of Energy, Energy Efficiency and Renewable Energy, 1000 Independence Avenue SW., Washington, DC 20585, Phone: 202 287-1604, Email: lucy.debutts@ee.doe.gov.

RIN: 1904-AD28

DEPARTMENT OF ENERGY (DOE)

Energy Efficiency and Renewable Energy (EE)

Final Rule Stage

240. Test Procedures for Light-Emitting Diode Lamps

Legal Authority: 42 U.S.C. 6294(a)(6); 42 U.S.C. 6293

Abstract: EPCA, as amended by EISA 2007, requires the Secretary to create test procedures for light emitting diode (LED) lamps that accurately represent the energy consumption of this product. The Secretary will issue new test procedures by December 2015. This rulemaking is supporting the implementation by the Federal Trade Commission of labeling provisions under 42 U.S.C.6294(a)(6). The rulemaking will include methods for determining lumen output, input power, correlated color, temperature, and lifetime.

Timetable:

Action | Date | FR Cite
NPRM | 04/09/12 | 77 FR 21038
NPRM Comment Period End | 06/25/12 |
Supplemental NPRM | 06/03/14 | 79 FR 32019
Supplemental NPRM Comment Period End | 08/04/14 |
Second Supplemental NPRM | 06/26/14 | 79 FR 36242
Second Supplemental NPRM Comment Period End | 08/04/14 |
Third Supplemental NPRM | 07/09/15 | 80 FR 39644
Third Supplemental NPRM Comment Period End | 08/10/15 |
Final Action | 12/00/15 |

Regulatory Flexibility Analysis Required: Yes.

Agency Contact: Lucy DeButts, Office of Buildings Technologies Program, EE-5B, Department of Energy, Energy Efficiency and Renewable Energy, 1000 Independence Avenue SW., Washington, DC 20585, Phone: 202 287-1604, Email: lucy.debutts@ee.doe.gov.

RIN: 1904-AC67

241. Energy Conservation Standards for Residential Ceiling Fan Light Kits

Legal Authority: 42 U.S.C. 6295(ff)(5) and (6)

Abstract: EPCA authorizes the Secretary to determine whether updating the statutory energy conservation standards for ceiling fan light kits is technically feasible and economically justified and would result in significant energy savings. If the criteria are met, the Secretary may issue amended energy conservation standards for these products.

Timetable:

Action | Date | FR Cite
Public Meeting and Availability of Framework Document | 03/15/13 | 78 FR 16443
Framework Document Comment Period End | 04/29/13 |
Correction and Comment Period Extended | 05/02/13 | 78 FR 25626
Comment Period Extended End | 06/14/13 |
Request for Information (RFI) | 10/22/13 | 78 FR 62494
RFI Comment Period End | 11/21/13 |
Notice of Public Meeting; Availability of Preliminary Technical Support Document (Ceiling Fans) | 09/29/14 | 79 FR 58290
Preliminary Technical Support Document (Ceiling Fans) Comment Period End | 11/28/14 |
Notice of Public Meeting Availability of Preliminary Technical Support Document (Ceiling Fan Kits) | 10/31/14 | 79 FR 64712
Preliminary Technical Support Document (Ceiling Fan Kit) Comment Period End | 12/30/14 |
NPRM | 08/13/15 | 80 FR 48623
NPRM Comment Period End | 10/13/15 |
Final Action | 07/00/16 |

Regulatory Flexibility Analysis Required: Yes.

Agency Contact: Lucy DeButts, Office of Buildings Technologies Program, EE-5B, Department of Energy, Energy Efficiency and Renewable Energy, 1000 Independence Avenue SW., Washington, DC 20585, Phone: 202 287-1604, Email: lucy.debutts@ee.doe.gov.

RIN: 1904-AC87

DEPARTMENT OF ENERGY (DOE)

Energy Efficiency and Renewable Energy (EE)

Long-Term Actions

242. Energy Conservation Standards for Commercial Pre-Rinse Spray Valves

Legal Authority: 42 U.S.C. 6295(m)

Abstract: EPCA, as amended by EPACT 2005, requires the Secretary to determine whether amending the statutory energy conservation standards for commercial pre-rinse spray valves is technologically feasible and economically justified. If justified, the Secretary will issue amended energy conservation standards for commercial prerinse spray valves.

Timetable:

Action | Date | FR Cite
Framework Document | 09/11/14 | 79 FR 54213
Framework Document Comment Period End | 10/27/14 |
Framework Document Comment Period Extended | 10/21/14 | 79 FR 62899
Framework Document Comment Period Extended End | 11/12/14 |
NPRM | 07/09/15 | 80 FR 39486
NPRM Comment Period Extended | 08/28/15 | 80 FR 52210
NPRM Extended Comment Period End | 09/22/15 |
Final Action | 11/00/16 |

Regulatory Flexibility Analysis Required: Yes.

Agency Contact: Ashley Armstrong, Phone: 202 586-6590, Email: ashley.armstrong@ee.doe.gov.

RIN: 1904-AD31

DEPARTMENT OF ENERGY (DOE)

Energy Efficiency and Renewable Energy (EE)

Completed Actions

243. Test Procedure for Refrigerated Bottled or Canned Beverage Vending Machines

Legal Authority: 42 U.S.C. 6293(b)(1)

Abstract: EPCA, as amended by EISA 2007, requires the Secretary to review test procedures for refrigerated beverage vending machines and determine if an amended test procedure would more accurately or fully comply with requirements under EPCA.

Completed:

Reason | Date | FR Cite
Final Action | 07/31/15 | 80 FR 45758
Final Action Effective | 08/31/15 |

Regulatory Flexibility Analysis Required: Yes.

Agency Contact: Ashley Armstrong, Phone: 202 586-6590, Email: ashley.armstrong@ee.doe.gov.

RIN: 1904-AD07

[FR Doc. 2015-30619 Filed 12-14-15; 8:45 am]

BILLING CODE 6450-01-P